DEPARTMENT OF THE INTERIOR

Bureau of Indian Affairs

Notice of Availability, Midnite Uranium Mine Natural Resource Damage Assessment Plan, Part I: Injury Determination

AGENCY: Bureau of Indian Affairs, Interior.

ACTION: Notice.

SUMMARY: The Department of the Interior (represented by the Bureau of Indian Affairs, the Fish and Wildlife Service, and the National Park Service), the Spokane Tribe of Indians, and the Confederated Tribes of the Colville Reservation (the Trustees) announce the release for public review of the Midnite Uranium Mine Natural Resource Damage Assessment Plan, Part I: Injury Determination. This Assessment Plan was developed by the Midnite Uranium Mine Natural Resource Trustee Council, consisting of representatives of the Trustee agencies listed above. The purpose of the Plan is to communicate the Trustees' proposed approach for determining injury to natural resources resulting from the release of hazardous substances from the Midnite Mine Superfund Site, an associated uranium mill site, haul road and other areas to potentially responsible parties (PRPs) and the public so that these stakeholders can productively participate in the assessment process. All interested parties are invited to submit comments on the Assessment Plan.

DATES: Comments on the Assessment Plan are due on or before July 19, 2004.

ADDRESSES: Written comments should be sent to the Lead Administrative Trustee: Spokane Tribe of Indians, Department of Natural Resources, c/o Dr. F.E. Kirschner, P. O. Box 312, Valleyford, WA 99036 (Telephone (509) 924-0184, Facsimile (509) 924-4515, E-mail: fredk@icehouse.net). The Assessment Plan is available for review at the Spokane Indian Reservation, Department of Natural Resources Reading Room, Wellpinit, WA 99040. The Assessment Plan is available for public inspection during normal business hours by appointment.

FOR FURTHER INFORMATION CONTACT: Dr. F. E. Kirschner, (509) 924-0184.

SUPPLEMENTARY INFORMATION:

Background

This Assessment Plan addresses the Trustees' approach for determining injury to natural resources resulting from the release of hazardous substances from the Midnite Mine Superfund Site (Mine), including its associated uranium mill (Mill), haul road, and other areas where hazardous substances have come to be located (the facility or Assessment Area). The Mine is an inactive, open-pit uranium mine situated entirely within the boundaries of the Spokane Indian Reservation in eastern Washington. The Mine's impacted areas include two large water-filled mining pits, several mining pits now backfilled with mine waste and waste rock, a retention pond, a leachate collection pool, outfall ponds and seeps, at least eight abandoned uranium ore and protore piles, large mining spoils disposal areas, a mine water treatment plant, a system of weirs, ditches, and sumps for seepage collection, and various buildings housing pump equipment and storage tanks for collected seep water. The uranium Mill is located near the town of Ford, Washington, northwest of the City of Spokane. The Mill is comprised of a number of buildings, 14 acres of storage pads where uranium ore was stockpiled prior to milling, and a tailings disposal area. The haul road, a public road used for hauling uranium ore from the Mine to the Mill, runs for approximately 20 miles through the communities of Wellpinit and Ford.

The Dawn Mining Company and/or Newmont Mining Company (the Companies) operated the Mine from 1955 to 1981. The Mill was operated by the Companies from 1956 until 1982, then from 1992 to 2000 limited operations resumed for the processing of water treatment plant sludge from the Mine. Uranium ore was transported over the haul road throughout the period of Mine operation. More recently it has been used to haul water treatment plant sludge.

Beginning in the 1950s and continuing today, hazardous substances, including radiological and non-radiological contaminants, have been released into groundwater, surface water, and air in the Assessment Area. As a result, natural resources of the Blue Creek, Sand Creek, Chamokane Creek watersheds, portions of the Spokane River, the Spokane Arm of Lake Roosevelt, and other areas have been exposed to elevated levels of hazardous substances.

In 2000 the U.S. EPA listed the Mine site on the Superfund National Priorities List. A Remedial Investigation/Feasibility Study is being developed, and response actions at the Mine include development of a control system for the management of drainage water. Cleanup of the Mill is under the authority of the Washington State Department of Health. A Groundwater Remedial Action Plan was put in place at the Mill in 1992; the effectiveness of this plan is being evaluated under a Corrective Action Assessment Plan. Removal actions to address contamination along the haul road are currently under consideration. Despite these past actions, releases of hazardous substances from the Assessment Area continue, and trust natural resources continue to be exposed to elevated levels of hazardous substances.

The Trustees have completed a Preassessment Screen, which concluded that there is a reasonable likelihood that natural resources have been injured and that the Trustees should conduct an assessment to develop a damage claim under 42 U.S.C. 9607. The Trustees' goal for the assessment is to fully restore the ecological and human use services lost or diminished as a result of injuries caused by the release of hazardous substances from the facility. This phase of the assessment is the first step in this assessment process. It provides a description of the Assessment Area, confirms exposure of trust resources to hazardous substances, and describes the Trustees' approach to injury determination for surface water, groundwater, air, geological, and biological resources.

Public Comment Availability

Comments, including names and addresses of respondents, will be available for public review at the mailing address shown in the ADDRESSES section, during regular business hours. Individual respondents who prefer confidentiality and wish to have their name and/or address withheld from public review or from disclosure under the Freedom of Information Act, must state this prominently at the beginning of their written comment. Such requests will be honored to the extent allowed by law. We will not, however, consider anonymous comments. All submissions from organizations or businesses, and from individuals identifying themselves as representatives or officials of organizations or businesses will be made available for public inspection in their entirety.

Authority

The authority for this action is the Comprehensive Environmental Response, Compensation, and Liability Act of 1980, as amended (42 U.S.C 9601 et seq.), and published under the authority delegated by the Secretary of the Interior to the Assistant Secretary for Indian Affairs in the Departmental Manual at 209 DM 8.

Dated: May 27, 2004.
David W. Anderson,
Assistant Secretary—Indian Affairs.

[FR Doc. 04-13672 Filed 6-16-04; 8:45 am]

BILLING CODE 4310-W7-P